ENVIRONMENTAL PROTECTION AGENCY

[EPA-HQ-OAR-2011-0621; FRL-9455-5]

Access by EPA Contractors to Confidential Business Information (CBI) Related to the Greenhouse Gas Reporting Program

AGENCY: Environmental Protection Agency (EPA).

ACTION: Notice.

SUMMARY: EPA's Office of Atmospheric Programs plans to authorize the contractors named in this notice to access information that will be submitted to EPA under the Greenhouse Gas Reporting Program that may be designated or claimed as confidential business information. Contractor access to this information will begin on August 29, 2011.

DATES: EPA will accept comments on this Notice through August 29, 2011.

ADDRESSES: You may submit your comments, identified by Docket ID No. EPA-HQ-OAR-2011-0621 by any of the following methods:

Federal eRulemaking Portal: http://www.regulations.gov. Follow the online instructions for submitting comments.

E-mail: MRR_Corrections@epa.gov. Include Docket ID No. EPA-HQ-OAR-2011-0621 in the subject line of the message.

Fax: (202) 566-9744.

Mail: Environmental Protection Agency, EPA Docket Center (EPA/DC), Mailcode 2822T, Attention Docket ID No. EPA-HQ-OAR-2011-0621, 1200 Pennsylvania Avenue, NW., Washington, DC 20004.

Hand/Courier Delivery: EPA Docket Center, Public Reading Room, EPA West Building, Room 3334, 1301 Constitution Avenue, NW., Washington, DC 20004. Such deliveries are only accepted during the Docket's normal hours of operation, and special arrangements should be made for deliveries of boxed information.

Instructions: Direct your comments to Docket ID No. EPA-HQ-OAR-2011-0621. EPA's policy is that all comments received will be included in the public docket without change and may be made available online at http://www.regulations.gov, including any personal information provided, unless the comment includes information claimed to be confidential business information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

FOR FURTHER INFORMATION CONTACT: Carole Cook, Climate Change Division, Office of Atmospheric Programs (MC-6207J), Environmental Protection Agency, 1200 Pennsylvania Ave., NW., Washington, DC 20460; telephone number: (202) 343-9263; fax number: (202) 343-2342; e-mail address: GHGReportingRule@epa.gov.

SUPPLEMENTARY INFORMATION:

I. Background and Comment Information

A. Does this notice apply to me?

This notice is directed to the general public. However, this action may be of particular interest to parties subject to the requirements of 40 CFR part 98. If you have further questions regarding the applicability of this action to a particular party, please contact the person listed in FOR FURTHER INFORMATION CONTACT.

B. How can I get copies of this document and other related information?

1. Electronically

EPA has included a public docket for this Federal Register notice under Docket EPA-HQ-OAR-2011-0621.

All documents in the docket are identified in the docket index available at http://www.regulations.gov. Although listed in the index, some information is not publicly available, such as confidential business information (CBI) or other information for which disclosure is restricted by statute. Certain materials, such as copyrighted material, will only be available in hard copy at the EPA Docket Center.

2. EPA Docket Center

Materials listed under Docket EPA-HQ-OAR-2011-0621 will be available for public viewing at the EPA Docket Center (EPA/DC), EPA West, Room 3334, 1301 Constitution Avenue, NW., Washington, DC 20460. The EPA Docket Center Public Reading Room is open from 8:30 a.m. to 4:30 p.m., Monday through Friday, excluding legal holidays. The telephone number for the Reading Room is (202) 566-1744, and the telephone number for the Air Docket is (202) 566-1742.

B. What should I consider as I prepare my comments to EPA?

1. Submitting CBI in Response to This Notice

Clearly mark the part or all of the comments that you claim to be CBI submitted in response to this notice. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information marked as CBI will not be disclosed except in accordance with procedures set forth in 40 CFR part 2.

If you have any questions about CBI or the procedures for claiming CBI, please consult the person identified in the FOR FURTHER INFORMATION CONTACT section.

2. Tips for Preparing Your Comments

When submitting comments, remember to:

Identify this Notice by docket number and other identifying information (e.g., subject heading, Federal Register date and page number).

Follow directions. EPA may ask you to respond to specific questions or organize comments by referencing a CFR part or section number.

Describe any assumptions and provide any technical information and/or data that you used.

Provide specific examples to illustrate your concerns and suggest alternatives. Explain your views as clearly as possible, avoiding the use of profanity or personal threats.

Make sure to submit your comments by the deadline identified in the preceding section titled DATES. To ensure proper receipt by EPA, be sure to identify the docket ID number assigned to this action in the subject line on the first page of your response. You may also provide the name, date, and Federal Register citation.

II. Description of Programs and Potential Disclosure of Information Claimed as Confidential Business Information to Contractors

EPA's Office of Atmospheric Programs (OAP) has responsibility for protecting public health and the environment by addressing climate change, protecting the ozone layer, and improving regional air quality. In response to the FY2008 Consolidated Appropriations Act (H.R. 2764; Pub. L. 110-161), EPA created the Greenhouse Gas Reporting Program (GHGRP), 40 CFR part 98 (part 98), which requires reporting of greenhouse gas (GHG) data and other relevant information from large sources and suppliers in the United States. The purpose of part 98 is to collect accurate and timely GHG data to inform future policy decisions. Some of the information submitted is designated or claimed to be CBI. Such information is handled in accordance with EPA's regulations in 40 CFR part 2, subpart B and in accordance with EPA procedures that are consistent with those regulations.

EPA has, at times, determined that it is necessary to disclose to EPA contractors certain information that has been designated or claimed as CBI. When this occurs, the corresponding contract must address the appropriate use and handling of the information by the contractor. In every instance, the contractor must require its personnel who need access to information designated or claimed as CBI to sign written agreements before they are granted access to the data.

In accordance with 40 CFR 2.301(h), EPA has determined that the contractors, subcontractors, and grantees (collectively referred to as “contractors”) listed below require access to data submitted to EPA under the GHGRP that is designated or claimed as CBI. EPA is providing notice and an opportunity to comment and is issuing this Federal Register notice to inform all reporters of information under part 98 that EPA plans to grant access to material that may be designated or claimed as CBI to the contractors identified below, as needed.

Under Contract Number GS-10F-0036K, Eastern Research Group, 110 Hartwell Avenue, Lexington, MA 02421, provides technical support that requires access to information designated or claimed as CBI related to the GHGRP including, but not limited to, research on data elements for all subparts. Access to data, including information designated or claimed as CBI, will commence on August 29, 2011 and will continue until the termination of this contract. If the contract is extended, this access will continue for the remainder of the contract and any further extensions without further notice.

Under Contract Number EP-W-07-067 Task Order 76, Eastern Research Group, 110 Hartwell Avenue, Lexington, MA 02421, provides technical support that requires access to information designated or claimed as CBI related to the GHGRP, including, but not limited to, 40 CFR part 98, subparts H and FF. Access to data, including information designated or claimed as CBI, will commence on August 29, 2011 and will continue until the termination of this contract. If the contract is extended, this access will continue for the remainder of the contract and any further extensions without further notice.

Under Contract Number EP-W-07-099 Task Order 19, Eastern Research Group, 2300 Wilson Boulevard, Suite 350, Arlington, VA 22201, provides technical support that requires access to information designated or claimed as CBI related to the GHGRP, including, but not limited to, supporting field inspections for any source category. Access to data, including information designated or claimed as CBI, will commence on August 29, 2011 and will continue until the termination of this contract. If the contract is extended, this access will continue for the remainder of the contract and any further extensions without further notice.

Under Contract Number EP-W-07-068 Task Order 100, ICF International, 9300 Lee Highway, Fairfax, VA 22031, and its subcontractor, Advanced Resources International, 4501 Fairfax Drive, Suite 910, Arlington, VA 22203, provide technical support that requires access to information designated or claimed as CBI related to the GHGRP, including, but not limited to, 40 CFR part 98, subparts PP, RR, and UU. Access to data, including information designated or claimed as CBI, will commence on August 29, 2011 and will continue until the termination of this contract. If the contract is extended, this access will continue for the remainder of the contract and any further extensions without further notice.

Under Contract Number EP-W-07-068 Task Order 91, ICF International, 1725 I Street, NW., Suite 1000, Washington, DC 20006, and its subcontractors, Glew Engineering, 240 Pamela Drive, Mountain View, CA 94040, J Marks & Associates, L.L.C., 312 NE. Brockton Drive, Lee Summit, MO 64064, and Donald Wubbles, 105 S. Gregory Street, Urbana, IL 61801, provide technical support that requires access to information designated or claimed as CBI related to the GHGRP, including, but not limited to, 40 CFR part 98, subparts F, I, T, DD, OO, QQ, and SS, as well as Best Available Monitoring Method (BAMM) petitions. Access to data, including information designated or claimed as CBI, will commence on August 29, 2011 and will continue until the termination of this contract. If the contract is extended, this access will continue for the remainder of the contract and any further extensions without further notice.

Under Contract Number EP-W-07-068 Task Order 93, ICF International, 9300 Lee Highway, Fairfax, VA 22031, provides technical support that requires access to information designated or claimed as CBI related to the GHGRP, including, but not limited to, 40 CFR part 98, subparts NN and P. Access to data, including information designated or claimed as CBI, will commence on August 29, 2011 and will continue until the termination of this contract. If the contract is extended, this access will continue for the remainder of the contract and any further extensions without further notice.

Under Contract Number EP-W-07-068 Task Order 66, ICF International, 9300 Lee Highway, Fairfax, VA 22031, provides technical support that requires access to information designated or claimed as CBI related to the GHGRP, including, but not limited to, 40 CFR part 98, subpart W, as well as BAMM petitions. Access to data, including information designated or claimed as CBI, will commence on August 29, 2011 and will continue until the termination of this contract. If the contract is extended, this access will continue for the remainder of the contract and any further extensions without further notice.

Under Contract Number EP-W-07-069 Task Order 21, RTI International, PO Box 12194, 3040 Cornwallis Road, Research Triangle Park, NC 27709, provides technical support that requires access to information designated or claimed as CBI related to the GHGRP, including, but not limited to, 40 CFR part 98, subparts HH and TT. Access to data, including information designated or claimed as CBI, will commence on August 29, 2011 and will continue until the termination of this contract. If the contract is extended, this access will continue for the remainder of the contract and any further extensions without further notice.

Under Contract Number EP-W-07-069 Task Order 28, RTI International, PO Box 12194, 3040 Cornwallis Road, Research Triangle Park, NC 27709, provides technical support that requires access to information designated or claimed as CBI related to the GHGRP including, but not limited to, 40 CFR part 98, subparts L and O, as well as BAMM petitions. Access to data, including information designated or claimed as CBI, will commence on August 29, 2011 and will continue until the termination of this contract. If the contract is extended, this access will continue for the remainder of the contract and any further extensions without further notice.

Under Contract Number EP-W-07-069 Task Order 29, RTI International, PO Box 12194, 3040 Cornwallis Road, Research Triangle Park, NC 27709, provides technical support that requires access to information designated or claimed as CBI related to the GHGRP, including, but not limited to, 40 CFR part 98, subparts C, D, E, G, K, N, Q, R, S, U, V, X, Y, Z, AA, BB, CC, EE, GG, LL, and MM. Access to data, including information designated or claimed as CBI, will commence on August 29, 2011 and will continue until the termination of this contract. If the contract is extended, this access will continue for the remainder of the contract and any further extensions without further notice.

Under Contract Number EP-W-07-070 Task Order 8, Science Applications International Corporation (SAIC), 1710 SAIC Drive, McLean, VA 22102, and its subcontractor, Federal Working Group, 508 Lincoln Avenue, Falls Church, VA 22046, provide technical support that requires access to information designated or claimed as CBI related to the GHGRP, including, but not limited to, information technology development and support for 40 CFR part 98. Access to data, including information designated or claimed as CBI, will commence on August 29, 2011 and will continue until the termination of this contract. If the contract is extended, this access will continue for the remainder of the contract and any further extensions without further notice.

Under Contract Number EP-W-07-071 Task Order 13, SRA International, Inc., 652 Peter Jefferson Parkway, Suite 300, Charlottesville, VA 22911, provides technical support that requires access to information designated or claimed as CBI related to the GHGRP, including, but not limited to, 40 CFR part 98, subpart C, as well as BAMM petitions. Access to data, including information designated or claimed as CBI, will commence on August 29, 2011 and will continue until the termination of this contract. If the contract is extended, this access will continue for the remainder of the contract and any further extensions without further notice.

Under Contract Number EP-W-07-071 Task Order 15, SRA International, Inc., 4300 Fair Lakes Court, Fairfax, Virginia 22033, and its subcontractor, Rabbit Software, LLC, 1657 Old Brook Road, Charlottesville, VA 22901, provide technical support that requires access to information designated or claimed as CBI related to the GHGRP, including, but not limited to, verification of data submitted through the electronic-Greenhouse Gas Reporting Tool (e-GGRT). Access to data, including information designated or claimed as CBI, will commence on August 29, 2011 and will continue until the termination of this contract. If the contract is extended, this access will continue for the remainder of the contract and any further extensions without further notice.

Under Contract Number EP-W-07-064 Work Assignment No. 3-10, SRA International, Inc., 652 Peter Jefferson Parkway, Suite 300, Charlottesville, VA 22911, provides technical support that requires access to information designated or claimed as CBI related to the GHGRP, including, but not limited to, information technology and computer system development and support for 40 CFR part 98. Access to data, including information designated or claimed as CBI, will commence on August 29, 2011 and will continue until the termination of this contract. If the contract is extended, this access will continue for the remainder of the contract and any further extensions without further notice.

Under Contract Number GS-35F4381G Task Order 1659, CSC, 15000 Conference Center Drive, Chantilly, VA 20151, and its contractors, ITM Associates, Inc., 1700 Rockville Pike, Suite 350, Rockville, MD 20852, Excel Management Systems, 691 N. High Street, 2nd floor, Columbus, OH 43215, and KForce, 12010 Sunset Hill Road, Reston, VA 20190, provide technical support that requires access to information designated or claimed as CBI related to the GHGRP, including, but not limited to, maintenance of the e-GGRT server(s) and other information technology related efforts. Access to data, including information designated or claimed as CBI, will commence on August 29, 2011 and will continue until the termination of this contract. If the contract is extended, this access will continue for the remainder of the contract and any further extensions without further notice.

Under Contract Number GS-35F-4461G Task Order 1668, Science Applications International Corporation (SAIC), 10260 Campus Point Drive, San Diego, CA 92121, and its contractors, Federated IT, Inc., 1200 G Street, NW., Suite 800, Washington, DC 20005, Intervise Consultants, Inc., 10110 Molecular Drive, Suite 100, Rockville, MD 20850, and Premier Technical Services, 312 Main Street, Luray, VA 22835, provide technical support that requires access to information designated or claimed as CBI related to the GHGRP, including, but not limited to, maintenance of the e-GGRT server(s) and other information technology related efforts. Access to data, including information designated or claimed as CBI, will commence on August 29, 2011 and will continue until the termination of this contract. If the contract is extended, this access will continue for the remainder of the contract and any further extensions without further notice.

Under Contract Number GS-35F-4797H Task Order EP-G11D-00056, CGI, 12601 Fair Lakes Circle, Fairfax, VA 22033, and its subcontractors, FedConcepts, 101 Log Canoe Circle, Suite M, Stevensville, MD 21666, and Raytheon Company, 5700 Rivertech Court, Riverdale, MD 20737, provide technical support that requires access to information designated or claimed as CBI related to the GHGRP, including, but not limited to, maintenance of the e-GGRT server(s) and other information technology related efforts. Access to data, including information designated or claimed as CBI, will commence on August 29, 2011 and will continue until the termination of this contract. If the contract is extended, this access will continue for the remainder of the contract and any further extensions without further notice.

Parties who wish further information about this Federal Register notice or about OAP's disclosure of information designated or claimed as CBI to contactors may contact the person listed under FOR FURTHER INFORMATION CONTACT.

Dated: August 17, 2011.
Elizabeth Craig,
Acting Director, Office of Atmospheric Programs.

[FR Doc. 2011-21562 Filed 8-22-11; 8:45 am]

BILLING CODE 6560-50-P